ENVIRONMENTAL PROTECTION AGENCY

[FRL-6884-4]

Science Advisory Board; Notification of Public Advisory Committee Meetings

Pursuant to the Federal Advisory Committee Act, Public Law 92-463, notice is hereby given that two committees of the US EPA Science Advisory Board (SAB) will meet on the dates and times noted below. All times noted are Eastern Time. All meetings are open to the public, however, seating is limited and available on a first come basis. Important Notice: Documents that are the subject of SAB reviews are normally available from the originating EPA office and are not available from the SAB Office—information concerning availability of documents from the relevant Program Office is included below.

1. Research Strategies Advisory Committee (RSAC)—October 27, 2000

The Research Strategies Advisory Committee (RSAC) will meet via public teleconference on Friday, October 27, 2000 from 10:00 am-12:00 pm. The teleconference meeting will be hosted out of Conference Room 6013 in the USEPA, Ariel Rios Building North, 1200 Pennsylvania Avenue, NW, Washington, DC 20460. Members of the public located in the Washington, DC area are encouraged to attend the meeting due to the limitation on teleconference lines.

Purpose of the Meeting: In this meeting, the Research Strategy Advisory Committee will hold a consultation on the Office of Research and Development's (ORD) draft Strategic Plan 2000.

Availability of Review Materials: A draft agenda will be available to the public at the SAB website (http://www.epa.gov/sab) by close-of-business on October 20, 2000. Copies of the ORD draft Strategic Plan 2000 are available from Greg Grinder, US EPA, ORD (8201R), 1300 Pennsylvania Avenue, NW, Washington, DC 20460, telephone (202) 564-6882 or via e-mail at: grinder.greg@epa.gov. The draft is also available on the ORD Website at: http://www.epa.gov/ORD/SP2K.

FOR FURTHER INFORMATION CONTACT: Any member of the public wishing further information concerning this meeting or wishing to submit brief oral comments must contact John “Jack” R. Fowle III, Designated Federal Officer, Science Advisory Board (1400A), U.S. Environmental Protection Agency, 1200 Pennsylvania Avenue, NW, Washington, DC 20460; telephone (202) 564-4547; FAX (202) 501-0323; or via e-mail at fowle.jack@epa.gov. Requests for oral comments must be in writing (e-mail preferred) and received by Fowle no later than noon Eastern Time on October 20, 2000. For further information concerning participation via telephone, please contact Wanda Fields, Management Assistant, Committee Operations Staff, US EPA Science Advisory Board (1400A), U.S. Environmental Protection Agency, 1200 Pennsylvania Avenue, NW, Washington, DC 20460; telephone (202) 564-4539; FAX (202) 501-0582; or via e-mail at fields.wanda@epa.gov.

2. Executive Committee (EC)—November 1-2, 2000

The Executive Committee (EC) of US EPA's Science Advisory Board (SAB) will meet on Wednesday and Thursday, November 1-2, 2000 beginning at 8:30 a.m. each day and ending no later than 5:00 p.m. each day. The meeting will be held in Conference Room 6013 in the USEPA, Ariel Rios Building North, 1200 Pennsylvania Avenue, NW, Washington, DC 20460.

Purpose of the Meeting: In this meeting, the Executive Committee plans to review reports from some of its Committees/Subcommittee, most likely including, but not limited to, the following:

(a) Environmental Engineering Committee (EEC): (1) Commentary on Diffusion (For more details on this SAB commentary, please refer to 65 Federal Register 32089, May 22, 2000); (2) Commentary on Measures of Environmental Technology Performance (For more details on this SAB commentary, please refer to 65 Federal Register 1866, January 12, 2000).

(b) Radiation Advisory Committee (RAC): (1) Advisory on GENII ver. 2.0; and (2) Advisory on TENORM (Technologically Enhanced Naturally Occurring Radioactive Material) (For more details on these two SAB Advisories, please refer to 65 Federal Register 18095, April 6, 2000).

On the afternoon of November 1st, the Board will conduct the fourth and final workshop in its series on Science and New Approaches to Stakeholder Involvement. In addition, the EC is planning to conduct a Consultation with the Office of Environmental Information (OEI), discuss interactions with other Federal Advisory committees in the Agency, develop plans for a strategic planning retreat next spring, and confer with selected Agency officials.

Availability of Review Materials: The agenda for the meeting will be updated on the SAB Website (www.epa.gov/sab) up to the time of the meeting per se and will track which reports will be reviewed by EC. The draft SAB reports will also be posted on the Website at least one week prior to the meeting.

Important Notice: The Agency documents that are the subject of SAB reviews are normally available from the originating EPA office and are not available from the SAB Office. Information concerning availability of documents from the relevant Program Office is included in the FR references given above with each SAB report.

For Further Information: Any member of the public wishing further information concerning this meeting or wishing to submit brief oral comments must contact Donald Barnes, Designated Federal Officer, Science Advisory Board (1400A), U.S. Environmental Protection Agency, 1200 Pennsylvania Avenue, NW, Washington, DC 20460; telephone (202) 564-4533; FAX (202) 501-0323; or via e-mail at barnes.don@epa.gov. Requests for oral comments must be in writing (e-mail preferred) and received by Dr. Barnes no later than noon Eastern Time on October 24, 2000.

Providing Oral or Written Comments at SAB Meetings

It is the policy of the Science Advisory Board to accept written public comments of any length, and to accommodate oral public comments whenever possible. The Science Advisory Board expects that public statements presented at its meetings will not be repetitive of previously submitted oral or written statements. Oral Comments: In general, each individual or group requesting an oral presentation at a face-to-face meeting will be limited to a total time of ten minutes. For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to the appropriate DFO at the address/contact information noted above in the following formats: One hard copy with original signature, and one electronic copy via e-mail (acceptable file format: WordPerfect, Word, or Rich Text files (in IBM-PC/Windows 95/98 format). Those providing written comments and who attend the meeting are also asked to bring 25 copies of their comments for public distribution.

General Information: Additional information concerning the Science Advisory Board, its structure, function, and composition, may be found on the SAB Website (http://www.epa.gov/sab) and in The FY1999 Annual Report of the Staff Director which is available from the SAB Publications Staff at (202) 564-4533 or via fax at (202) 501-0256. Committee rosters, draft Agendas and meeting calendars are also located on our website.

Meeting Access: Individuals requiring special accommodation at these meetings, including wheelchair access to the conference room, should contact the appropriate DFO at least five business days prior to the meeting so that appropriate arrangements can be made.

Dated: October 4, 2000.
Donald G. Barnes,
Staff Director, Science Advisory Board.

[FR Doc. 00-26225 Filed 10-11-00; 8:45 am]

BILLING CODE 6560-50-P